ENVIRONMENTAL PROTECTION AGENCY

40 CFR Part 721

[OPPTS-50638A; FRL-6769-7]

RIN 2070-AB27

Significant New Uses of Certain Chemical Substances; Delay of Effective Date

AGENCY: Environmental Protection Agency (EPA).

ACTION: Final Rule; Delay of Effective Date.

SUMMARY: In accordance with the memorandum of January 20, 2001, from the Assistant to the President and Chief of Staff, entitled “Regulatory Review Plan,” published in the Federal Register on January 24, 2001 (66 FR 7701), this action temporarily delays for 60 days the effective date of the rule entitled “Significant New Uses of Certain Chemical Substances; Direct Final Rule,” published in the Federal Register on December 26, 2000 (65 FR 81386) (FRL-6592-8). That rule concerns EPA's promulgation of significant new use rules (SNURs) under section 5(a)(2) of the Toxic Substances Control Act (TSCA) for 40 chemical substances which were the subject of premanufacture notices (PMNs) and subject to TSCA section 5(e) consent orders issued by EPA.

DATES: The new effective date of the Significant New Uses of Certain Chemical Substances; Direct Final Rule, amending 40 CFR part 721 published in the Federal Register on December 26, 2000 at 65 FR 81386 (FRL-6592-8), from February 26, 2001, to a new effective date of April 27, 2001.

FOR FURTHER INFORMATION CONTACT: James Alwood, Chemical Control Division (7405), Office of Pollution Prevention and Toxics, Environmental Protection Agency, 1200 Pennsylvania Ave., NW., Washington, DC 20460; telephone number: (202) 260-1857; e-mail address: alwood.jim@epa.gov.

SUPPLEMENTARY INFORMATION: To the extent that 5 U.S.C. 553 applies to this action, it is exempt from notice and comment because it constitutes a rule of procedure under 5 U.S.C. 553(b)(A). Alternatively, the Agency's implementation of this action without opportunity for public comment, effective immediately upon publication today in the Federal Register, is based on the good cause exceptions in 5 U.S.C. 553(b)(B) and 553(d)(3). Seeking public comment is impracticable, unnecessary and contrary to the public interest. The temporary 60-day delay in effective date is necessary to give Agency officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule immediately effective upon publication.

Dated: February 1, 2001.
David Kling,
Acting Director, Office of Pollution Prevention and Toxics.

[FR Doc. 01-3181 Filed 2-6-01 8:45 am]

BILLING CODE 6560-50-S